DEPARTMENT OF TRANSPORTATION

Federal Aviation Administration

14 CFR Chapter 1

Notice of Policy Regarding Civil Aircraft Operators Providing Contract Support to Government Entities (Public Aircraft Operations)

AGENCY: Federal Aviation Administration (FAA), DOT.

ACTION: Notification of policy change; request for comments.

SUMMARY: This notice states the Federal Aviation Administration's (FAA) policy pertaining to civil aircraft operators that provide contract support to government entities.

DATES: Comments must be received before April 22, 2011.

ADDRESSES: This is a statement of policy only. We are accepting comments concerning the implementation of this policy only from government entities via e-mail at PublicAircraft@faa.gov.

FOR FURTHER INFORMATION CONTACT: Monica C. Buenrostro, General Aviation and Commercial Division, Flight Standards Service, AFS-800, Federal Aviation Administration, 800 Independence Avenue, SW., Washington, DC 20591; telephone: (202) 267-8212; e-mail: monica.c.buenrostro@faa.gov.

SUPPLEMENTARY INFORMATION: Title 49 of the United States Code (U.S.C), section 40102 (a)(41) provides the definition of “Public Aircraft” and Title 49 U.S.C 40125 provides the Qualifications for Public Aircraft Status. These statutory provisions provide the legal basis for public aircraft operations in the United States.

The FAA recognizes that these statutory provisions are difficult to apply to aircraft operations conducted by civil contractors for government entities. The FAA is therefore clarifying its policy toward these operators by better defining the responsibilities of the parties affected by these contracts.

Public Aircraft Operation is limited by the statute to certain government operations within U.S. airspace. Although these operations must comply with certain general operating rules (including those applicable to all aircraft in the National Airspace System), other civil certification and safety oversight regulations do not apply. Whether an operation may be considered public is determined on a flight-by-flight basis, under the terms of the statute (49 U.S.C 40102 and 49 U.S.C 40125) and considers aircraft ownership, operator, the purpose of the flight and the persons on board the aircraft.

FAA Policy

• Public aircraft status is not an “automatic” status granted by the existence of a contract between a civil operator and a government agency.

• The FAA considers ALL contracted operations to be civil aircraft operations, unless:

• The contracting government entity provides the operator with a written declaration (from the contracting officer or higher-level official) of public aircraft status for designated, qualified flights;

• The contracted operator notifies the FAA Flight Standards District Office (FSDO) having oversight of the operator (or the operation, as appropriate) that it has contracted with a government entity to conduct “eligible” public aircraft operations;

• The contracted operator submits the written declaration to the FSDO with jurisdiction having oversight;

• The flight(s) in question are determined to be legitimate public aircraft operations under the terms of the statute; and

• The declaration is made in advance of the proposed public aircraft flight.

• To implement this policy and collect data, the FSDO having oversight of the contracted operator will record receipt of these declarations by electronic means.

Contracted government entities are cautioned that public aircraft operations performed by civil operators create a significant transfer of liability to the contracting government entity, and that FAA oversight ceases.

Civil operators are cautioned that unless there is a declaration of public aircraft status, all operations must be conducted in accordance with all applicable civil aviation regulations, and that the FAA retains oversight and enforcement authority for any deviation from the provisions of Title 14 of the Code of Federal Regulations (14 CFR). Operators are also cautioned that it is their responsibility to refuse a contract to perform operations that violate 14 CFR if they cannot ensure that the government entity offering the contract has declared that operation as a public aircraft operation and that such flight meets the public aircraft eligibility requirements as outlined in the statute.

The FAA is revising Advisory Circular 00.1-1, Government Aircraft Operations, and FAA Order 8900.1, Flight Standards Information Management System. These revisions will more fully address public aircraft policy issues and implementation.

Government entities with experience using civil operators under contract are invited to share their experience and suggestions concerning implementation of this policy. Government entities may submit comments to PublicAircraft@faa.gov to be considered as the FAA continues to refine the public aircraft operations policy.

Issued in Washington, DC, on March 17, 2011.
John W. McGraw,
Acting Director, Flight Standards Service.

[FR Doc. 2011-6894 Filed 3-22-11; 8:45 am]

BILLING CODE P